DEPARTMENT OF HEALTH AND HUMAN SERVICES

Centers for Disease Control and Prevention

Request for Research Sites To Measure Composition of Sealed Area Atmosphere in Coal Mines

AGENCY: National Institute for Occupational Safety and Health (NIOSH) of the Centers for Disease Control and Prevention (CDC), Department of Health and Human Services (HHS).

ACTION: Notice.

SUMMARY: The National Institute for Occupational Safety and Health (NIOSH) of the Centers for Disease Control and Prevention (CDC), is seeking research sites to measure composition of sealed area atmosphere in coal mines.

NIOSH seeks to conduct scientific studies of the composition of sealed area atmospheres and the mechanisms of methane accumulation within sealed areas. Research questions to be addressed are: (1) Whether potentially explosive gas mixtures exist within sealed areas, (2) how extensive such mixtures might be, (3) how the gas composition changes over time, (4) whether methane layering exists, (5) the homogeneity of the atmosphere, and (6) how barometric pressure changes impact the sealed atmosphere. NIOSH will document measurements of the composition of the sealed area atmosphere over time, analyze the findings, and report the findings generically to all interested parties.

DATES: Letter of interest must be received within 90 calendar days of publication in the Federal Register.

ADDRESSES: Mining companies able to provide NIOSH with mine sites for this research should submit a letter of interest to the NIOSH Pittsburgh Research Laboratory (PRL) Director. The letter should provide the name of the mine and a brief description of the anticipated sealing plans. Any questions should be addressed by phone or e-mail. Please send letter of interest to: R. Güner Gürtunca, PhD, NIOSH Pittsburgh Research Laboratory (PRL), 626 Cochrans Mill Road, Post Office Box 18070, Pittsburgh, PA 15236, telephone (412) 386-6601, E-mail GGurtunca@cdc.gov.

Background: Recent research reports published by NIOSH and the U.S. Army Corps of Engineers describe the potential for explosive methane mixtures to develop within sealed areas of underground coal mines. The composition and behavior of the atmosphere within sealed areas are not scientifically well-understood. Areas of interest include the extent and nature of explosive mixtures of gases, how the composition of these mixtures change over time, whether methane layering exists, the homogeneity of the atmosphere, and how barometric pressure changes impact the atmosphere behind seals.

Description: To conduct these measurements, NIOSH will deploy a tube bundle system (TBS) at the mine site for a period of 2 to 5 months (usually not more than 3 months). A TBS is a mechanical system for collecting and analyzing atmospheric samples continuously from anywhere in a mine. The TBS that NIOSH plans to use is a system that is currently being successfully deployed in many Australian underground coal mines. NIOSH seeks three to four underground coal mines throughout the U.S. to cooperate in this study. Underground coal mines covering at least one square mile and producing a medium to high volume of methane are needed. Sampling will be conducted one mine at a time. Either longwall or room-and-pillar mines are acceptable. NIOSH wants to deploy the system in a variety of geological conditions. A soon-to-be-abandoned coal mine is another option for deployment of the TBS.

Prior to sealing, NIOSH will install plastic sample tubing throughout the mine and the future sealed area. This should require a few days to accomplish and will require minimal effort from the cooperating mine. NIOSH will need to be present during the sealing process to insure that the tubing is properly installed through the seals. After sealing, NIOSH will monitor the composition of the atmosphere throughout the sealed area during the initial methane-accumulation phase and for several months thereafter until stability of the sealed atmosphere develops. Collected data will not be analyzed on a real time basis other than to insure that the system is properly working.

NIOSH will require the following assistance from mining company personnel:

• Site-specific guidance concerning the area to be sealed and how to most efficiently run the sampling tube out of the mine to the sampling analysis location.

• Transportation to and from the sealed area during the installation phase of the TBS and to occasionally check the status of the TBS underground.

• A surface location to locate the sampling trailer.

• For a mine site to be acceptable to NIOSH for this testing, the cooperating mine must be installing 120 psi seals that meet the current design standard.

• After installation, NIOSH will require little assistance from mining company personnel until NIOSH is ready to remove the system from the mine when some transportation assistance will be needed.

After the data is analyzed, the cooperating mine will be provided the data pertaining to its mine. NIOSH will present and/or publish data in a manner that does not identify the cooperating mines. Cooperating mines will have the opportunity to review publications and presentations by NIOSH prior to their release. While NIOSH will not identify the mines in its publications, the identity of cooperating mines may be subject to release in response to a request for documents made under the Freedom of Information Act. This announcement does not obligate NIOSH to enter into an agreement with any respondent.

FOR FURTHER INFORMATION CONTACT: R. Güner Gürtunca, PhD, NIOSH Pittsburgh Research Laboratory (PRL), 626 Cochrans Mill Road, Post Office Box 18070, Pittsburgh PA, 15236, telephone (412) 386-6601, e-mail GGurtunca@cdc.gov.

Dated: April 6, 2009.
Christine M. Branche,
Acting Director, National Institute for Occupational Safety and Health, Centers for Disease Control and Prevention.

[FR Doc. E9-8462 Filed 4-13-09; 8:45 am]

BILLING CODE 4163-19-P